DEPARTMENT OF VETERANS AFFAIRS

Privacy Act of 1974; System of Records

AGENCY: Department of Veterans Affairs (VA).

ACTION: Notice of amendment to system of records.

SUMMARY: As required by the Privacy Act of 1974 (5 U.S.C. 552a(e)(4)), notice is hereby given that the Department of Veterans Affairs (VA) is amending the system of records entitled “Administrator's Official Correspondence Records-VA” (75VA001B),” as set forth in the Federal Register on August 29, 1989. VA is amending the system by updating its name, and revising the routine uses of records maintained in the system, including categories of users and the purposes of such uses. VA is republishing the system notice in its entirety.

DATES: Comments on the amendment of this system of records must be received no later than July 27, 2009. If no public comment is received, the amended system will become effective July 27, 2009.

ADDRESSES: Written comments may be submitted through http://www.Regulations.gov; by mail or hand-delivery to the Director, Regulations Management (02REG), Department of Veterans Affairs, 810 Vermont Avenue, NW., Room 1068, Washington, DC 20420; or by fax to (202) 273-9026. Comments should indicate that they are submitted in response to the amendment of “Department of Veterans Affairs Secretary's Official Correspondence Records-VA” (75VA001B). Copies of comments received will be available for public inspection in the Office of Regulation Policy and Management, Room 1063B, between the hours of 8 a.m. and 4:30 p.m. Monday through Friday (except holidays). Please call (202) 461-4902 for an appointment. In addition, during the comment period, comments may be viewed online through the Federal Docket Management System (FDMS) at http://www.Regulations.gov.

FOR FURTHER INFORMATION CONTACT: Gemma Button, Deputy Executive Secretary, Office of the Executive Secretary, Office of the Secretary, Department of Veterans Affairs, 810 Vermont Avenue, NW., Washington, DC 20420; (202) 461-4869.

SUPPLEMENTARY INFORMATION: A Notice to amend this System of Records was published in the Federal Register of August 29, 1989 (75VA001B).

I. Description of the System of Records

This System of Records, now known as “Department of Veterans Affairs Secretary's Official Correspondence Records-VA,” is the Secretary's Official Correspondence Records, which include the name, address and other identifying information pertaining to the correspondent, as well as background information concerning matters which the correspondent has brought to the Department's attention. The System of Records also contains documents generated within VA which may contain the names, addresses and other identifying information of individuals who conduct business with VA, as well as material received, background information compiled and/or response sent.

II. Proposed Routine Use Disclosures of Data in the System

VA is rewriting existing routine uses in the System using plain language. The use of plain language in these routine uses does not, and is not intended to, change the disclosures authorized under these routine uses. VA is amending, deleting, rewriting and reorganizing the order of the routine uses in this system of records, as well as adding new routine uses. Accordingly, the following changes are made to the current routine uses and are incorporated in the amended system of records notice.

Current routine use number 1 is amended to more accurately reflect VA's authorization to disclose individually-identifiable information to Members of Congress, or a staff person acting for the Member, when the Member or staff person requests the records on behalf of and at the written request of the individual. This amendment clarifies that a written request is required.

Current routine use number 2 is deleted in its entirety and the information contained therein is clarified with the addition of routine use number 6.

New routine uses number 2 through number 7 are added. New routine use number 2 addresses disclosure to the National Archives and Records Administration in records management inspections conducted under authority of title 44 U.S.C.

New routine use number 3 addresses disclosure of information in legal proceedings and to the Department of Justice. In determining whether to disclose records under this routine use, VA will comply with the guidance promulgated by the Office of Management and Budget (OMB) in a May 24, 1985, memorandum entitled: “Privacy Act Guidance—Update” currently posted at: http://www.whitehouse.gov/omb/inforeg/guidance1985.pdf.

New routine use number 4 addresses the disclosure of relevant information to individuals, organizations, private or public agencies, or other entities with which VA has a contract or agreement.

New routine use number 5 addresses that VA may disclose information in the system, except the names and home addresses of veterans and their dependents, that is relevant to a suspected or reasonably imminent violation of the law. VA may also disclose the names and addresses of veterans and their dependents to a Federal agency charged with the responsibility of investigating or prosecuting civil, criminal, or regulatory violations of law.

New routine use number 6 addresses when VA may disclose to other Federal agencies to assist such agencies in preventing and detecting possible fraud or abuse by individuals in their operations and programs.

New routine use number 7 addresses the circumstances, and to whom, VA may disclose records to respond to, and minimize possible harm to, individuals as a result of a data breach. This routine use is promulgated to meet VA's statutory duties under 38 U.S.C. 5724 and The Privacy Act, 5 U.S.C. 552a, as amended.

III. Compatibility of the Proposed Routine Uses

Release of information from these records, pursuant to routine uses, will be made only in accordance with the Privacy Act of 1974. The Privacy Act of 1974 permits agencies to disclose information about individuals, without their consent, for a routine use when the information will be used for a purpose that is compatible with the purpose for which the information was collected. VA has determined that the disclosure of information for the above-stated purposes in the proposed amendment to routine uses is a proper and necessary use of the information collected by the electronic document tracking system, and is compatible with the purpose for which VA collected the information.

The notice of intent to publish an advance copy of the system notice has been sent to the appropriate Congressional committees and to the Director of the Office of Management and Budget (OMB) as required by 5 U.S.C. 552a(r) (Privacy Act) and guidelines issued by OMB (65 FR 77677), December 12, 2000.

Approved: June 9, 2009.
John R. Gingrich,
Chief of Staff, Department of Veterans Affairs.

System Number

75VA001B

System Name:

“Department of Veterans Affairs Secretary's Official Correspondence Records-VA”

System Location:

Paper records are maintained in the Office of the Executive Secretary (001B), Office of the Secretary, Department of Veterans Affairs (VA) Central Office (VACO), 810 Vermont Avenue, NW., Washington, DC 20420. Copies of some documents may be located in other offices throughout VACO and occasionally at field facilities, i.e. Veterans Health Administration VA medical centers and Veterans Integrated Service Network offices; Veterans Benefits Administration regional offices and Area Offices; National Cemetery Administration national cemeteries and Memorial Service Network offices; etc. Address locations for VA field facilities are listed in Appendix 1 of the biennial publication of the VA Privacy Act Issuances.

Categories of Individuals Covered by the System:

Individuals who voluntarily provide personal contact information when submitting correspondence or other documents to the Department, including, but not limited to: Members of Congress and their staff, officials and representatives of other Federal agencies, State, local and tribal governments, foreign governments, and veterans service organizations; representatives of private or commercial entities; veterans and other VA beneficiaries; VA employees; and other individuals who correspond with the VA Secretary and Deputy Secretary and other VA officials.

Categories of Records in the System:

Full name, postal address, e-mail address, phone and fax numbers of individuals corresponding with the Department, the name of the organization or individual being represented, as well as supporting documents. Information provided may include personal information.

Authority for Maintenance of the System:

Title 38, United States Code, section 501.

Purpose:

To permit VA to identify individuals and/or organizations who have submitted correspondence or documents to VA. The System of Records also contains documents generated within VA which may contain the names, addresses and other identifying information of individuals who conduct business with VA.

Routine Uses of Records Maintained in the System, Including Categories of Users and the Purposes of Such Users:

1. The record of an individual who is covered by a system of records may be disclosed to a Member of Congress, or a staff person acting for the Member, when the Member or staff person requests the records on behalf of and at the written request of the individual.

2. Disclosure may be made to the National Archives and Records Administration in records management inspections conducted under authority of title 44 U.S.C.

3. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

4. Disclosure of relevant information may be made to individuals, organizations, private or public agencies, or other entities with whom VA has a contract or agreement or where there is a subcontract to perform such services as VA may deem practicable for the purposes of laws administered by VA, in order for the contractor or subcontractor to perform the services of the contract or agreement.

5. VA may disclose on its own initiative any information in the system, except the names and home addresses of veterans and their dependents, that is relevant to a suspected or reasonably imminent violation of the law whether civil, criminal, or regulatory in nature and whether arising by general or program statute or by regulation, rule, or order issued pursuant thereto, to a Federal, State, local, tribal, or foreign agency charged with the responsibility of investigating or prosecuting such violation, or charged with enforcing or implementing the statute, regulation, rule, or order. VA may also disclose on its own initiative the names and addresses of veterans and their dependents to a Federal agency charged with the responsibility of investigating or prosecuting civil, criminal, or regulatory violations of law, or charged with enforcing or implementing the statute, regulation, or order issued pursuant thereto.

6. Disclosure to other Federal agencies may be made to assist such agencies in preventing and detecting possible fraud or abuse by individuals in their operations and programs.

7. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm (have already determined this does not make sense; see my possible solution in the preamble). This routine use permits disclosures by the Department to respond to a suspected or confirmed data breach, including the conduct of any risk analysis or provision of credit protection services as provided in 38 U.S.C. 5724, as the terms are defined in 38 U.S.C. 5727.

Policies and Practices for Storing, Retrieving, Accessing, Retaining, and Disposing of Records in the System:

(a) Storage:

Records are maintained on paper in the Office of the Executive Secretary (001B), Department of Veterans Affairs, 810 Vermont Avenue, NW., Washington, DC 20420.

(b) Retrievability:

Records are maintained by subject and unique number generated by an automated system. In addition, records for Members of Congress are maintained in alphabetical order by last name.

(c) Safeguards:

Hard copy records are maintained in a controlled facility, where physical entry is restricted by the use of locks, guards, and/or administrative procedures. Access to records is limited to those employees who require the records to perform their official duties consistent with the purpose for which the information was collected. All personnel whose official duties require access to the information are trained in the proper safeguarding and use of the information.

(d) Retention and Disposal:

Records will be maintained and disposed of, in accordance with records disposition authority, approved by the Archivist of the United States.

System Manager(s) and Addresses:

Gemma Button, Deputy Executive Secretary, Office of the Executive Secretary (001B), Office of the Secretary, Department of Veterans Affairs, 810 Vermont Avenue, NW., Washington, DC 20420.

Notification Procedures:

Individuals seeking to determine whether this System of Records contains information about them should address written inquiries to the Office of the Executive Secretary (001B), Department of Veterans Affairs, 810 Vermont Avenue, NW., Washington, DC 20420.

Record Access Procedure:

Individuals seeking access to or contesting the contents of records about themselves contained in this System of Records should address a written request, including full name, address and telephone number to the Office of the Executive Secretary (001B), Department of Veterans Affairs, 810 Vermont Avenue, NW., Washington, DC 20420.

Contesting Record Procedures:

(See record access procedures above.)

Record Source Categories:

Records in this system are derived from processing replies to correspondence, and other inquiries that originate from Members of Congress; other Federal agencies; State, local and tribal governments; foreign governments, veterans service organizations; representatives of private or commercial entities; veterans and their beneficiaries; VA employees; and other individuals who correspond with VA or one of its components. Records maintained include material received, background information compiled and/or response sent.

Exemptions Claimed for the System:

There are no exemptions being claimed for this system.

[FR Doc. E9-14965 Filed 6-24-09; 8:45 am]

BILLING CODE P